DEPARTMENT OF HEALTH AND HUMAN SERVICES

Centers for Disease Control and Prevention

[60 Day-07-07AU]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Joan Karr, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Survey to Assess Methicillin-Resistant Staphylococcus aureus (MRSA) Prevention Programs among Hospitals Participating in CDC MRSA Surveillance Programs—New—National Center for Preparedness, Detection, and Control of Infectious Diseases (NCPDCID) (proposed), Centers for Disease Control and Prevention.

Background and Brief Description

In October, 2006, CDC recommended specific strategies to reduce transmission of multi-drug resistant organisms, including MRSA, in U.S. hospitals. Currently detailed data on ongoing MRSA prevention efforts at hospitals reporting to CDC surveillance systems is unknown. CDC has developed a survey to assess MRSA prevention programs in place at health care facilities reporting MRSA infection data to CDC through established surveillance systems. In this project, infection control practitioners in all 220 hospitals that participate in the MRSA portion of the Active Bacterial Core Surveillance System will surveyed electronically three times. There will be an initial baseline survey and then two follow-up surveys, each a year apart. The surveys will determine if changes in infection control practice correlate with changes in rates of MRSA infections. The proposed survey will provide data that can be used to assess progress toward achieving CDC's Health Protection Goals. The survey will also provide data on facility-based MRSA prevention policies and procedures that may affect MRSA infection rates. These results will inform CDC in the prevention and control of MRSA.

This proposed project supports CDC's Goal of “Healthy People in Healthy Places” and its Strategic Goal to “Increase the number of health care institutions that comply with evidence based guidelines for infection control.”

There is no cost to respondents other than their time to complete the survey.

Estimate of Annualized Burden Hours
Respondents | Number of respondents | Number of responses per respondent | Average burden per response (in hours) | Total burden (in hours)
Hospital Infection Control Professionals | 220 | 1 | 15/60 | 55
Total |  |  |  | 55

Dated: March 30, 2007.
Joan F. Karr,
Acting Reports Clearance Officer, Centers for Disease Control and Prevention.

[FR Doc. E7-6340 Filed 4-4-07; 8:45 am]

BILLING CODE 4163-18-P